ENVIRONMENTAL PROTECTION AGENCY

[EPA-HQ-OAR-2008-001; FRL-8545-8]

Protection of Stratospheric Ozone; Launch of Electronic Reporting System

AGENCY: Environmental Protection Agency (EPA).

ACTION: Notice.

SUMMARY: EPA is prepared to receive, in electronic form, certain documents required under the regulations at 40 CFR Part 82 for the Stratospheric Ozone Protection Program. EPA is launching an electronic reporting system that will allow producers, importers, and exporters of Class I ozone-depleting substances (except methyl bromide) and Class II ozone-depleting substances to submit quarterly reports electronically. EPA believes that, for many users, electronic reporting will allow reporting to occur with greater ease, speed, and accuracy than the paper-based reporting systems.

FOR FURTHER INFORMATION CONTACT: Jennifer Bohman, Stratospheric Protection Division, Office of Air and Radiation (6205J), Environmental Protection Agency, 1200 Pennsylvania Ave. NW., Washington, DC 20460; telephone number: (202) 343-9548; fax number: (202) 343-2338; e-mail address: bohman.jennifer@epa.gov. Additional information, including the electronic reporting forms, training and guidance documents are found at http://www.epa.gov/ozone/record/ereport.html.

SUPPLEMENTARY INFORMATION:

I. General Information

A. What Action is the Agency Taking?

EPA is launching an electronic reporting system that will allow the electronic submission of certain quarterly reports. Over the past year, EPA has conducted a pilot effort to use and evaluate an electronic reporting system. EPA has refined the system based on recommendations from the pilot participants. EPA is now launching the electronic reporting system and providing an opportunity for all eligible participants to use the system.

B. What Is the Agency's Authority for Taking This Action?

EPA is establishing this electronic reporting system under section 603(b) of the Clean Air Act which states that “on a quarterly basis, or such other basis (not less than annually) as determined by the Administrator, each person who produced, imported, or exported a class I or class II substance shall file a report with the Administrator. * * *”

EPA offers the electronic reporting system as an alternative to the existing paper-based reporting system. The electronic reporting system does not contain any new or additional requirements. The electronic reporting system is compliant with EPA's Cross Media Electronic Reporting Rule.

C. What Reports Can Be Submitted Electronically?

The electronic reporting system currently allows producers, importers, and exporters of Class I ozone-depleting substances (except methyl bromide) and Class II ozone-depleting substances to submit quarterly reports electronically. These quarterly reports, among others, are required under our regulations at 40 CFR 82.13 and 82.24. In addition to the quarterly report data, participants will also be able to submit supporting documents that would have been attached to hard copy reports under the previous system.

EPA anticipates expanding the electronic reporting system to include additional reports required by the Stratospheric Ozone Protection Program's regulations.

D. Am I Required To Submit Reports Electronically?

EPA strongly encourages companies to use the electronic reporting system. EPA believes that electronic submission of data will be easier, faster, and more accurate. However, EPA will continue to accept paper reporting forms.

E. How Is EPA Protecting Information Submitted Electronically?

This electronic reporting system is compliant with the Cross Media Electronic Reporting Rule, a base standard that ensures the security of electronic data submissions. In addition, because reporting companies typically claim the quarterly report information as confidential, EPA has implemented robust measures to ensure protection of data submitted electronically, including digital electronic signatures and an encryption and decryption process that meets Agency and industry standards for data security.

F. How Will I Know if EPA Received Information Submitted Electronically?

EPA recognizes the importance of a smooth transition from a paper-based reporting system to an electronic reporting system. Submitters of electronic data will receive e-mail confirmation that EPA has received an electronic data submission. In addition, to ensure the new electronic process is established correctly on users' networks, EPA is requiring participants in electronic reporting to continue submitting hard-copy forms for the first two quarters they are submitting data electronically.

G. How Do I Find Out More About Electronic Reporting?

EPA is providing a number of training resources to assist companies who may wish to transition to the electronic reporting system. Interested companies will be able to download electronic reporting forms, training and guidance documents from EPA's Stratospheric Ozone Protection Program Web site at http://www.epa.gov/ozone/record/ereport.html. EPA will also host online training sessions to provide detailed instructions, demonstrations, and an open forum to discuss the online reporting system. Information on such outreach will be available on EPA's Web site. In addition, EPA will provide help desk assistance for companies as they develop and submit electronic reporting packages.

Dated: March 18, 2008.
Brian J. McLean,
Director, Office of Atmospheric Programs.

[FR Doc. E8-5879 Filed 3-21-08; 8:45 am]

BILLING CODE 6560-50-P